SECURITIES AND EXCHANGE COMMISSION

[File No. 500-1]

Advanced Growing Systems, Inc., Advantage Capital Development Corp., Amazon Biotech, Inc., Andover Holdings, Inc. a/k/a Andover Energy Holdings, Inc., Bravo! Brands, Inc., and BSML, Inc., Order of Suspension of Trading

March 9, 2012.

It appears to the Securities and Exchange Commission that there is a lack of current and accurate information concerning the securities of Advanced Growing Systems, Inc. because it has not filed any periodic reports since the period ended June 30, 2009.

It appears to the Securities and Exchange Commission that there is a lack of current and accurate information concerning the securities of Advantage Capital Development Corp. because it has not filed any periodic reports since the period ended December 31, 2006.

It appears to the Securities and Exchange Commission that there is a lack of current and accurate information concerning the securities of Amazon Biotech, Inc. because it has not filed any periodic reports since the period ended October 31, 2007.

It appears to the Securities and Exchange Commission that there is a lack of current and accurate information concerning the securities of Andover Holdings, Inc. a/k/a Andover Energy Holdings, Inc. because it has not filed any periodic reports since the period ended December 31, 2008.

It appears to the Securities and Exchange Commission that there is a lack of current and accurate information concerning the securities of Bravo! Brands, Inc. because it has not filed any periodic reports since the period ended March 31, 2007.

It appears to the Securities and Exchange Commission that there is a lack of current and accurate information concerning the securities of BSML, Inc. because it has not filed any periodic reports since the period ended March 28, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 9, 2012, through 11:59 p.m. EDT on March 22, 2012.

By the Commission.
Jill M. Peterson,
Assistant Secretary.

[FR Doc. 2012-6157 Filed 3-9-12; 4:15 pm]

BILLING CODE 8011-01-P